DEPARTMENT OF COMMERCE

International Trade Administration

[A-823-817]

Prestressed Concrete Steel Wire Strand From Ukraine: Final Results of Antidumping Duty Administrative Review; 2020-2022

AGENCY: Enforcement and Compliance, International Trade Administration, Department of Commerce.

SUMMARY: The U.S. Department of Commerce (Commerce) determines that PJSC Stalkanat (Stalkanat) did not make sales of prestressed concrete steel wire strand (PC strand) from Ukraine in the United States at less than normal value during the period of review, (POR) November 19, 2020, through May 31, 2022.

DATES: Applicable November 16, 2023.

FOR FURTHER INFORMATION CONTACT: Laura Griffith, AD/CVD Operations, Office III, Enforcement and Compliance, International Trade Administration, U.S. Department of Commerce, 1401 Constitution Avenue NW, Washington, DC 20230; telephone: (202) 482-6430.

SUPPLEMENTARY INFORMATION:

Background

On July 14, 2023, Commerce published the preliminary results of this administrative review covering one producer/exporter, Stalkanat.¹ We invited interested parties to comment on the Preliminary Results. For a complete description of the events that occurred since the Preliminary Results, see the Issues and Decision Memorandum.²

¹ See Prestressed Concrete Steel Wire Strand from Ukraine: Preliminary Results of Antidumping Duty Administrative Review and Preliminary Intent To Rescind, in Part; 2020-2022, 88 FR 45134 (July 14, 2023) (Preliminary Results).

² See Memorandum, “Issues and Decision Memorandum for the Final Results of the Administrative Review of the Antidumping Duty Order on Prestressed Concrete Steel Wire Strand from Ukraine; 2020-2022,” dated concurrently with and hereby adopted by this notice (Issues and Decision Memorandum).

Commerce conducted this administrative review in accordance with section 751 of the Tariff Act of 1930, as amended (the Act).

Scope of the Order ³

³ See Prestressed Concrete Steel Wire Strand from Indonesia, Italy, Malaysia, South Africa, Spain, Tunisia, and Ukraine: Antidumping Duty Orders, 86 FR 29998 (June 4, 2021) (Order).

The product covered by this Order is PC strand from Ukraine. For a full description of the scope of the Order, see the Issues and Decision Memorandum.

Analysis of Comments Received

All issues raised in the case and rebuttal briefs are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Successor-in-Interest Analysis

Commerce initiated this administrative review with respect to Stalkanat and PJSC PA Stalkanat-Silur (Stalkanat-Silur), the entity that participated in the original investigation. We preliminarily determined that Stalkanat is the successor-in-interest to Stalkanat-Silur.⁴ No parties commented on this issue in their briefs; accordingly, Commerce has determined that Stalkanat is the successor-in-interest to Stalkanat-Silur.⁵

⁴ See Preliminary Results.

⁵ While Commerce indicated its intent to rescind the review of Stalkanat-Silur in the Preliminary Results, rather than rescinding the review, Commerce determines that Stalkanat is the successor-in-interest to Stalkanat-Silur.

Changes Since the Preliminary Results

Based on a review of the record and comments received from interested parties, we have not made any changes to the weighted-average dumping margin for Stalkanat.

Final Results of Review

Commerce determines that the following weighted-average dumping margin exists for the period November 19, 2020, through May 31, 2022:

Producer and/or exporter | Weighted-average dumping margin (percent)
PJSC Stalkanat | 0.00

Disclosure

Commerce normally discloses to interested parties the calculations performed in connection with the final results within five days of any public announcement or, if there is no public announcement, within five days of the date of publication of the notice of final determination in the Federal Register, in accordance with 19 CFR 351.224(b). However, there are no new calculations to disclose in accordance with 19 CFR 351.224(b) for these final results.

Assessment Rate

Pursuant to section 751(a)(2)(A) of the Act, and 19 CFR 351.212(b)(1), Commerce shall determine, and U.S. Customs and Border Protection (CBP) shall assess, antidumping duties on all appropriate entries covered by this review. Because the rate assigned to Stalkanat (formerly Stalkanat-Silur) is zero, Commerce will instruct CBP to liquidate the appropriate entries without regard to antidumping duties.⁶

⁶ As explained above, we determined that Stalkanat is the successor-in-interest to Stalkanat-Silur. Accordingly, we intend to issue assessment instructions covering entries produced and exported by either Stalkanat or Stalkanat-Silur during the POR at the rate established in these final results.

Commerce's “automatic assessment” will apply to entries of subject merchandise during the POR produced by the mandatory respondent for which the company did not know that the merchandise it sold to an intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for Stalkanat will be zero; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 19.30 percent, the rate established in the investigation of this proceeding.⁷ These cash deposit requirements, when imposed, shall remain in effect until further notice.

⁷ See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: November 9, 2023.
Abdelali Elouaradia,
Deputy Assistant Secretary for Enforcement and Compliance.

Appendix

List of Topics Discussed in the Issues and Decision Memorandum

I. Summary

II. Background

III. Scope of the Order

IV. Changes Since the Preliminary Results

V. Final Successor-In-Interest Determination

VI. Discussion of the Issue

Comment: Whether Stalkanat's U.S. Sales Were Bona Fide

VII. Recommendation

[FR Doc. 2023-25351 Filed 11-15-23; 8:45 am]

BILLING CODE 3510-DS-P